DEPARTMENT OF TRANSPORTATION

Federal Motor Carrier Safety Administration

[Docket No. FMCSA-2017-0133]

Commercial Driver's License: U.S. Custom Harvesters, Inc.; Application for Renewal of Exemption

AGENCY: Federal Motor Carrier Safety Administration (FMCSA), Department of Transportation (DOT).

ACTION: Notice of final disposition; renewal of exemption.

SUMMARY: FMCSA announces its final decision to renew the exemption granted to U.S. Custom Harvesters, Inc. (USCHI) from the intrastate restriction (“K”) on commercial driver's licenses (CDLs) for custom harvester drivers operating in interstate commerce for a five-year period. FMCSA's regulations provide an exception to the minimum age requirements for drivers of commercial motor vehicles (CMVs) controlled and operated by a person engaged in interstate custom harvesting. However, FMCSA's CDL regulations do not include a corresponding exception from the intrastate-only (or “K”) restriction for these drivers. This exemption renewal continues relief from the CDL provision for five years.

DATES: This exemption is effective from October 3, 2025, and expires on October 3, 2030.

FOR FURTHER INFORMATION CONTACT: Richard Clemente, FMCSA Driver and Carrier Operations Division; Office of Carrier, Driver and Vehicle Safety Standards; 202-366-9220; or richard.clemente@dot.gov. If you have questions on viewing or submitting material to the docket, contact Dockets Operations, (202) 366-9826.

SUPPLEMENTARY INFORMATION:

I. Public Participation

Viewing Comments and Documents

To view any documents mentioned as being available in the docket, go to https://www.regulations.gov/docket/FMCSA-2017-0133/document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analysis. The Agency must provide an opportunity for public comment on the request.

The Agency reviews applications, safety analyses, and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt and the effective period and will explain all terms and conditions of the exemption (49 CFR 381.315(c)(1)). If the exemption is denied, the notice will explain the reason for the denial (49 CFR 381.315(c)(2)). The exemption may be renewed (49 CFR 381.300(b)).

III. Background

Current Regulatory Requirements

The Federal Highway Administration (FMCSA's predecessor agency) adopted 49 CFR 391.2(a) on December 22, 1971 (36 FR 24218). Under this provision, commercial motor vehicle (CMV) drivers, as defined in 49 CFR 390.5, engaged in custom harvesting are exempt from all of part 391, including the requirement to be at least 21 years of age to operate a CMV in interstate commerce. State Driver Licensing Agencies issue a “K” restriction on CDLs of drivers who are under the age of 21 to restrict these drivers to operating within the issuing State only. Section 391.2(a) does not preempt State CDL regulations, such as the requirement in 49 CFR 383.23(a)(2) to “[possess] a CDL which meets the standards contained in subpart J of this part,” including any “K” restriction imposed under 49 CFR 383.153(a)(10)(vii) of subpart J.

Application for Renewal of Exemption

The renewal application from USCHI was described in detail in a Federal Register notice of May 12, 2025, (90 FR 20206) and will not be repeated here as the facts have not changed.

IV. Public Comments

One comment was submitted to the docket by USCHI, which said: “We are urging FMCSA to grant the exemption given its importance to USCHI members. It has provided custom harvesting businesses with much-needed employees and drivers and has directly contributed to the development of quality, responsible truck drivers for America's highways.” USCHI also referenced its petition for FMCSA to clarify what USCHI believes are conflicting regulations 49 CFR 391.2 and 49 CFR 383.23(a)(2) and 49 CFR 383.153(a)(10)(vii). USCHI's petition is posted to docket number FMCSA-2021-0054-001.

V. Agency Decision

FMCSA has evaluated the USCHI exemption application and USCHI's comment, and issues this final decision to renew the exemption for a five-year period. FMCSA is not aware of any evidence showing that the exemption has resulted in any degradation in safety. Interstate operations for custom harvester drivers younger than 21 have been allowed since 1971 pursuant to 49 CFR 391.2(a). FMCSA reviewed crash and inspection data of drivers who have operated under the 2018 exemption. FMCSA does not have information to conclude that the 2018 exemption and subsequent renewal resulted in a degradation of safety. FMCSA concludes that renewing the exemption for five years will likely achieve a level of safety that is equivalent to, or greater than, the level of safety that would be achieved without the exemption, as required by 49 U.S.C. 31315(b)(1) and 49 CFR 381.305(a).

VI. Exemption

A. Applicability of Exemption

This exemption is applicable to drivers under the age 21 who are employed by USCHI members. Customer harvester drivers under 21 years of age will be able to present this exemption notice to help explain that when operating under the authority of a USCHI member, they are permitted to operate outside the State that issued their CDL, even though the license has a “K” (intrastate only) restriction.

Enforcement Officers

This exemption notice will explain to law enforcement officers that 49 CFR 391.2(a) authorizes custom harvester drivers to operate in interstate commerce even though they are under 21 years of age. The notice will explain that a “K” restriction on these drivers' CDLs does not limit them from driving outside the CDL-issuing State when they are operating as custom harvesters in accordance with 49 CFR 391.2(a) and this exemption.

State Driver Licensing Agencies

This exemption requires no action on the part of the State Driver Licensing Agencies. They will continue to issue CDLs with a “K” restriction to drivers under the age of 21.

B. Terms and Conditions

Motor carriers and drivers operating under the exemption are subject to the following terms and conditions:

(1) Drivers engaged in custom harvesting operations in interstate commerce shall be exempt from any intrastate-only “K” restriction on their CDLs when operating under the provisions of this exemption.

(2) Drivers must have a copy of this notice in their possession while operating under the terms of the exemption. The exemption document must be presented to law enforcement officials upon request.

(3) Drivers to whom this exemption applies are identified in 49 CFR 391.2(a) as those operating a CMV to transport farm machinery, supplies, or both, to or from a farm for custom harvesting operations on a farm; or transporting custom-harvested crops to storage or market.

(4) To ensure that the drivers are operating legitimately as a custom harvester, they should be able to provide at least three of the following methods of verification:

(a) The driver may have on hand a valid custom harvesting document such as a current-date agricultural commodity scale sheet, a current-date custom harvesting load sheet, an official company document stating the company's purpose, etc.

(b) The CMV may have license plates specific to custom harvesting, or the verbiage “Harvesting” may be part of the business signage on the vehicle.

(c) The CMV may be designed to haul a harvested agricultural commodity or equipment for harvesting or be a support vehicle for custom-harvesting operations, such as a service truck.

(d) The CMV may be hauling a harvested agricultural commodity or equipment for the purpose of custom harvesting.

(e) The CMV may have a newly harvested commodity or remnants on board.

(f) The driver will be able to provide a verifiable location of the current harvesting operation or delivery location for a harvested commodity.

(5) USCHI must provide FMCSA with a list of USDOT numbers of motor carriers that are engaged in custom farm operations upon request. The driver must be working for a motor carrier with a USDOT number identified in the most current list provided to FMCSA by USCHI. See additional FMCSA notification requirements in Section D below.

C. Preemption

In accordance with 49 U.S.C. 31315(d), as implemented by 49 CFR 381.600, during the period this exemption is in effect, no State shall enforce any law or regulation applicable to interstate commerce that conflicts with or is inconsistent with this exemption with respect to a firm or person operating under the exemption. States may, but are not required to, adopt the same exemption with respect to operations in intrastate commerce.

D. Notification to FMCSA

Upon request, USCHI must provide FMCSA with the USDOT numbers of the motor carriers that will be operating under this exemption. USCHI must notify FMCSA within five business days of any crash (as defined in 49 CFR 390.5), involving any of the drivers operating under the terms of the exemption. The notification must include the following information:

(a) Identity of Exemption: “USCHI Renewal,”

(b) Name of the custom harvester employer and USDOT number,

(c) Date of the crash,

(d) Origin and intended destination of the USCHI driver's trip and the distance (in miles) of the crash from the driver's home terminal,

(e) Driver's name, license number, and age,

(f) Vehicle number and State license number,

(g) Number of individuals suffering physical injury

(h) Number of fatalities,

(i) The police-reported circumstances of the crash,

(j) Whether the driver was cited for violation of any traffic laws or motor carrier safety regulations,

(k) The driver's total driving time and total on-duty time prior to the accident,

(l) Information about what safety training, if any, was provided to drivers operating under this exemption after the driver obtained a CDL, and

(m) A scanned copy of the police accident report. Reports filed under this provision shall be emailed to MCPSD@DOT.GOV.

E. Termination

The exemption will be rescinded if: (1) USCHI, motor carriers, and drivers operating under the exemption fail to comply with the terms and conditions of the exemption; (2) the exemption has resulted in a lower level of safety than was maintained before it was granted; or (3) continuation of the exemption would not be consistent with the goals and objects of 49 U.S.C. 31136(e) and 31315(b). Should FMCSA receive notice of any potential adverse safety impacts, FMCSA will take all steps necessary to protect the public interest, including revocation or restriction of the exemption if necessary. FMCSA may immediately revoke or restrict the exemption for failure to comply with its terms and conditions.

Jesse Elison,
Chief Counsel.

[FR Doc. 2025-18764 Filed 9-25-25; 8:45 am]

BILLING CODE 4910-EX-P